DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of November and December, 2001.

In order for an affirmative determination to be made and a certification of eligibility to apply for worker adjustment assistance to be issued, each of the group eligibility requirements of section 222 of the Act must be met.

(1) That a significant number or proportion of the workers in the workers' firm, or an appropriate subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,506; Unico, Sanford, ME

TA-W-39,806; Kysor Panel Systems, a Div. of Enodis Corp., Portland, OR

TA-W-39,883; FB Johnston Group, North Carolina Div., Hillsborough, NC

TA-W-39,033 G.E. Lighting, Inc., Bucyrus, OH

TA-W-39,511; Philips Display Components, Display Components, Ottawa, OH

TA-W-40.069; Westvaco Corp., Tyrone, PA

In the following cases, the investigation revealed that the criteria for eligibility have not been met for the reasons specified.

Increased imports did not contribute importantly to worker separations at the firm.

TA-W-39,926; Anvil Knitwear, Inc., King Mountain, NC

TA-W-39,991; Broyhill Furniture, Plant #34, Lenoir, NC

TA-W-39,955; Pennco Tool & Die, Meadville, PA

TA-W-39,703; Echo Bay Minerals Co., Battle Mountain, NV

TA-W-40,254; Graphic Packaging, Portland, OR

The workers firm does not produce an article as required for certification under section 222 of the Trade Act of 1974.

TA-W-40,140; Wormser Knitting Mills, Charlotte, NC

TA-W-40,262; Parago, Inc., Coppell, TX

The investigation revealed that criteria (2) has not been met. Sales or production did not decline during the relevant period as required for certification.

TA-W-39,682; Wellmade Industries, New York, New York

Affirmative Determinations for Worker Adjustment Assistance

The following certifications have been issued; the date following the company name and location of each determination references the impact date for all workers of such determination.

TA-W-40,022; Tyco International, Anderson Greenwood Crosby Div., Wrentham, MA: August 29, 2000.

TA-W-40,373 & A, B, C, D; Tect, Inc., Topton Sewing Plant, Topton, Pa., Cutting and Automated Sewing Dept., Allentown, PA, Knitting Dept, Allentown, PA, Temple Sewing Plant, Temple, PA and Sewing and Embellishment Dept., Allentown, PA: October 5, 2000.

TA-W-40,074; Kentucky Apparel, Tompkinsville, KY: September 5, 2000.

TA-W-39,909; RF Monolithics, Inc., Dallas, TX: August 13, 2000.

TA-W-39,858; Fedders Corp., Columbia Specialties, Inc., Columbia, TN: August 20, 2000.

TA-W-40,213; Communications and Power Industries, Inc., Satcom Div., Palo Alto, CA: October 4, 2000.

TA-W-40,247; IFF, Inc., Salem, OR: October 2, 2000.

TA-W-40,042; WP Textiles Processing Corp., Richmond, VA: September 4, 2000.

TA-W-39,874; Zinc Corp. of America, Balmat Mining Div., Hailesboro, NY: August 20, 2000.

TA-W-39,893; Union Apparel, Inc., Norvelt, PA: August 8, 2000.

TA-W-39,767; Bremen-Bowdon Investment Col, Bowdon, GA: July 20, 2000.

TA-W-39,805; Donaldson Co., Inc., Dust Collection Equipment, Lousville, KY: July 27, 2000.

TA-W-40,054; Fairchild Semiconductor, (Formerly Intersil Corp), Mountaintop, PA: September 2, 2000.

TA-W-39,489; California Cedar Products Co., Roseburg Sawmill, Roseburg, OR: June 7, 2000

TA-W-39,895; Crossville Rubber, Inc., Crossville, TN: August 15, 2000.

TA-W-39,896; KPT, Inc., Bloomfield, IN: August 7, 2000

Also, pursuant to Title V of the North American Free Trade Agreement Implementation Act (P.L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of November and December, 2001.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NATA-TAA

In each of the following cases the investigation revealed that criteria (3) and (4) were not met. Imports from Canada or Mexico did not contribute importantly to workers' separations. there was no shift in production from the subject firm to Canada or Mexico during the relevant period.

NAFTA-TAA-05164; Kysor Panel Systems, A Div. of Enodis Corp., Portland, OR

NAFTA-TAA-04953; G.E. Lighting, Inc., Bucyrus, OH

NAFTA-TAA-04455; Sunlite Casual Furniture, Paragould, AR

NAFTA-TAA-05326; FB Johnston Group, North Carolina Div., Hillsborough, NC

NAFTA-TAA-05081 & A, B, C & G; Spartan International, Inc., Cherokee Finishing Plant, SC, Spartan Plant, Spartansburg, SC, Rosemont Plant, Jonesville, SC King Finishing Plant, Dover, GA and Retail Business Office, Charlotte, NC

The workers firm does not produce an article as required for certification under section 250(a), Subchapter D, Chapter 2, Title II, of the Trade Act of 1974, as amended.

NAFTA-TAA-05346; Contract Apparel, Inc., El Paso, TX

Affirmative Determinations NAFTA-TAA

NAFTA-TAA-05081D; & E, F, H & I; Spartan International, King Mill, August, GA, Cleveland Mills, Lawndale, NC, Cleveland-Caroknit, Jefferson SC, Sales Office, New York, NY and Corporate Office, Spartanburg, SC: July 13, 2000.

NAFTA-TAA-05434; Tect, Inc., Sewing and Embellishment Departments, Allentown, PA: October 12, 2000.

NAFTA-TAA-05433; Tect, Inc., Temple Sewing Plant, Temple, PA: October 12, 2000.

NAFTA-TAA-05430; Tect, Inc., Topton Sewing Plants, Topton, PA: October 12, 2000.

NAFTA-TAA-05432; Tect, Inc., Knitting Department, Allentown, PA: October 12, 2000.

NAFTA-TAA-05349; Brooks Automation, Tracking Div., Including Leased Workers of K Force Professional Staffing, Volt Contractors, Superior Contractors and Aerotek Contractors, Colorado Springs, Co: September 20, 2000.

NAFTA-TAA-05393; Liebert Corp., Irvine California Operations, Irvine, CA: September 27, 2000.

NAFTA-TAA-04988; California Cedar Products Co., Roseburg Sawmill, Roseburg, OR: June 11, 2000.

NAFTA-TAA-05342; Curtain and Drapery Fashions, Inc., Gastonia, NC: September 20, 2000.

NAFTA-TAA-05431; Tect, Inc., Cutting and Automated Sewing Departments, Allentown, PA: October 12, 2000.

NAFTA-TAA-05374; Axiohm Transaction Solutions, Inc., American Magnetics Division, Cypress, CA: September 20, 2000.

NAFTA-TAA-05494; Sportrack Accessories, Div. of Sportrack Automotive, Shelburne, VT: October 26, 2000.

NAFTA-TAA-05398; IFF, Inc., Salem, OR: October 3, 2000.

I hereby certify that the aforementioned determinations were issued during the month of November and December, 2001. Copies of these determinations are available for inspection in Room C-5311, U.S. Department of Labor, 200 Constitution Avenue, NW., Washington, DC 20210 during normal business hours or will be mailed to persons who write to the above address.

Dated: November 30, 2001.
Edward A. Tomchick,
Director, Division of Trade Adjustment Assistance.

[FR Doc. 01-31634 Filed 12-21-01; 8:45 am]

BILLING CODE 4510-30-M